DEPARTMENT OF ENERGY

Federal Energy Regulatory Commission

[P-10773-030]

Southern Southeast Regional Aquaculture Association; Notice of Application Accepted for Filing, Ready for Environmental Analysis, Soliciting Motions To Intervene and Protests, Comments, Recommendations, Terms and Conditions, and Fishway Prescriptions

Take notice that the following hydroelectric application has been filed with the Commission and is available for public inspection:

a. Type of Application: Amendment of License.

b. Project No.: 10773-030.

c. Date Filed: October 27, 2016.

d. Applicant: Southern Southeast Regional Aquaculture Association.

e. Name of Project: Burnett River Hatchery Hydroelectric Project.

f. Location: The project is located on the Burnett River in the Wrangell Borough of Alaska.

g. Filed Pursuant to: Federal Power Act, 16 U.S.C. 791(a)-825(r).

h. Applicant Contact: Mr. Bill Gass, Production Manager, Southern Southeast Regional Aquaculture Association, 14 Borch Street, Ketchikan, AK 99901, (907) 228-4390, gass@ssraa.org.

i. FERC Contact: Anumzziatta Purchiaroni, (202) 502-6191, anumzziatta.purchiaroni@ferc.gov.

j. Deadline for filing comments, motions to intervene, and protests is 60 days from the issuance of this notice by the Commission; reply comments are due 105 days from the issuance date of this notice by the Commission. The Commission strongly encourages electronic filing. Please file any comments, motions to intervene, protests, recommendations, terms and conditions, and/or fishway prescriptions using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-10773-030.

k. Description of Request: The licensee is proposing to install at the powerhouse an additional 140-kilowatt (kW) generating unit coupled to the existing 80-kW unit, for a combined project installed capacity of 220 kW. The new unit will result in an increase of the project's hydraulic capacity from 6 to 15 cubic feet per second. The installation of the new unit will not require any physical changes to the project features since the powerhouse was designed to accommodate an additional generating unit. All work will occur within the existing powerhouse. The licensee is requesting the amendment to increase hatchery production at the project.

l. Locations of the Applications: A copy of the application is available for inspection and reproduction at the Commission's Public Reference Room, located at 888 First Street NE., Room 2A, Washington, DC 20426, or by calling (202) 502-8371. The filing may also be viewed on the Commission's Web site at http://www.ferc.gov/docs-filing/elibrary.asp. Enter the docket number excluding the last three digits in the docket number field to access the document (i.e., P-10773). You may also register online at http://www.ferc.gov/docs-filing/esubscription.asp to be notified via email of new filings and issuances related to this or other pending projects. For assistance, call 1-866-208-3676 or email FERCOnlineSupport@ferc.gov, for TTY, call (202) 502-8659.

m. Individuals desiring to be included on the Commission's mailing list should so indicate by writing to the Secretary of the Commission.

n. Comments, Motions to Intervene or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title “COMMENTS”, “MOTION TO INTERVENE”, “PROTEST”, “TERMS AND CONDITIONS” or “FISHWAY PRESCRIPTIONS”, as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, protests, recommendations, terms and conditions, or prescriptions should relate to project works which are the subject of the amendment request. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: May 8, 2017.
Kimberly D. Bose,
Secretary.

[FR Doc. 2017-09676 Filed 5-11-17; 8:45 am]

BILLING CODE 6717-01-P